SECURITIES AND EXCHANGE COMMISSION

[Release No. 34-100738; File No. SR-ISE-2024-14]

Self-Regulatory Organizations; Nasdaq ISE, LLC; Notice of Withdrawal of Proposed Rule Change To Amend ISE Options 4, Section 3 To List and Trade Options on Units That Represent Interests in a Trust That Holds Bitcoin

August 15, 2024.

Pursuant to Section 19(b)(1) of the Securities Exchange Act of 1934 (“Act”) ¹ and Rule 19b-4 thereunder,² Nasdaq ISE, LLC (“Exchange”) filed with the Securities and Exchange Commission (“Commission”) a proposed rule change to amend Options 4, Section 3(h) to allow the Exchange to list and trade options on units that represent interests in a trust that holds bitcoin (“Proposal”).

¹ 15 U.S.C. 78s(b)(1).

² 17 CFR 240.19b-4.

On March 25, 2024, the Proposal was published for comment in the Federal Register.³ On April 24, 2024, the Commission instituted proceedings under Section 19(b)(2)(B) of the Act ⁴ to determine whether to approve or disapprove the Proposal.⁵ The Commission received comments addressing the Proposal.⁶

³ See Securities Exchange Act Release No. 99776 (Mar. 19, 2024), 89 FR 20717.

⁴ 15 U.S.C. 78s(b)(2)(B).

⁵ See Securities Exchange Act Release No. 100024 (Apr. 24, 2024), 89 FR 34290 (Apr. 30, 2024).

⁶ Comment letters on the Proposal are available at https://www.sec.gov/comments/sr-ise-2024-14/srise202414.htm.

On July 19, 2024, the Commission designated a longer time for Commission action on the Proposal.⁷ On August 13, 2024, the Exchange withdrew the Proposal (SR-ISE-2024-14).

⁷ See Securities Exchange Act Release No. 100567 (Jul. 19, 2024), 89 FR 60482 (Jul. 25, 2024).

For the Commission, by the Division of Trading and Markets, pursuant to delegated authority.⁸

⁸ 17 CFR 200.30-3(a)(12).

Sherry R. Haywood,
Assistant Secretary.

[FR Doc. 2024-18703 Filed 8-20-24; 8:45 am]

BILLING CODE 8011-01-P